SECURITIES AND EXCHANGE COMMISSION

Proposed Collection; Comment Request

Upon Written Request, Copies Available From: U.S. Securities and Exchange Commission, Office of Investor Education and Advocacy, Washington, DC 20549

Rule 15b6-1 and Form BDW; OMB Control No. 3235-0018; SEC File No. 270-17.

Notice is hereby given that pursuant to the Paperwork Reduction Act of 1995 (44 U.S.C. 3501 et seq.) the Securities and Exchange Commission (“Commission”) intends to submit to the Office of Management and Budget a request to revise the collection of information discussed below. The Code of Federal Regulations citation to this collection of information is 17 CFR 240.15b6-1.

Registered broker-dealers use Form BDW (17 CFR 249.501a) to withdraw from registration with the Commission, the self-regulatory organizations, and the states. It is estimated that approximately 737 broker-dealers withdraw from registration annually and, therefore, file a Form BDW via the Internet with Web CRD, a computer system operated by the Financial Industry Regulatory Authority, Inc. that maintains information regarding registered broker-dealers and their registered personnel. However, the Commission estimates that approximately 127 of these 737 withdrawing broker-dealers would employ third-party filers to file Form BDW. The broker-dealers that employ third-parties would not incur an hour burden and, therefore, do not incur a reporting burden. As discussed below, however, these broker-dealers would incur a cost burden with respect to Form BDW. Therefore, the 610 broker-dealers that withdraw from registration by filing Form BDW themselves would incur an aggregate annual reporting burden of 152.5 hours (610 × 0.25 hours).

Broker-dealers that employ third-parties to file Form BDW would not incur a reporting burden, but would incur a cost burden in filing Form BDW. The Commission estimates that 127 broker-dealers would employ third-parties to file Form BDW. These broker-dealers would be billed by third-party filers at an estimated average compensation rate of $44.00 per hour. Therefore, the total annual cost burden to broker-dealers that employ third-party filers to file Form BDW would be approximately $1,397 (i.e., 127 × 0.25 hours × $44 per hour) or $11 per withdrawing broker-dealer.

Written comments are invited on: (a) Whether the proposed collection of information is necessary for the proper performance of the functions of the Commission, including whether the information shall have practical utility; (b) the accuracy of the Commission's estimates of the burden of the proposed collection of information; (c) ways to enhance the quality, utility, and clarity of the information to be collected; and (d) ways to minimize the burden of the collection of information on respondents, including through the use of automated collection techniques or other forms of information technology. Consideration will be given to comments and suggestions submitted in writing within 60 days of this publication.

Comments should be directed to: R. Corey Booth, Director/Chief Information Officer, Securities and Exchange Commission, C/O Shirley Martinson, 6432 General Green Way, Alexandria, Virginia 22312 or send an e-mail to: PRA_Mailbox@sec.gov. Comments must be submitted within 60 days of this notice.

May 21, 2008.
Nancy M. Morris,
Secretary.

[FR Doc. E8-11981 Filed 5-29-08; 8:45 am]

BILLING CODE 8010-01-P